DEPARTMENT OF TRANSPORTATION

Federal Aviation Administration

RTCA Special Committee 159; Minimum Operational Performance Standards for Airborne Navigation Equipment Using Global Positioning System (GPS)

Pursuant to section 10(a)(2) of the Federal Advisory Committee Act (P.L. 92-463, 5 U.S.C., Appendix 2), notice is hereby given for a Special Committee 159 meeting to be held October 24-27, 2000, starting at 9 a.m. each day. The meeting will be held at RTCA, 1140 Connecticut Avenue, NW., Washington, DC 20036.

The agenda will include:

Specific Working Group Sessions

October 24

Working Group (WG-1), Third Civil Frequency and WG-2C, GPS/Inertial.

October 25

9:00-12:00

WG-4, Precision Landing Guidance (GPS/LAAS) and WG-6, GPS/Interference;

1:30-4:30

WG-2, GPS/WAAS

SC-159 AD Hoc, Recommendation and WG5, Surface Surveillance

October 26

WG-2, GPS/WAAS

WG-4, Precision Landing Guidance (GPS/LAAS) and WG-6, GPS/Interference

October 27: Plenary Session

(1) Introductory Remarks;

(2) Approve Summary of Previous Meeting;

(3) Review Working Group (WG) Progress and Identify Issues for Resolution:

(a) GPS/3rd Civil Frequency (WG-1);

(b) GPS/WAAS (WG-2);

(c) GPS/GLONASS (WG-2A);

(d) GPS/Inertial (WG-2C);

(e) GPS/Precision Landing Guidance (WG-4);

(f) GPS/Airport Surface Surveillance (WG-5);

(g) GPS Interference (WG-6);

(h) SC-159 Ad Hoc;

(4) Review of EUROCAE Activities;

(5) Review/Approve Final Draft, SC-159, Response to the Johns Hopkins University Applied Physics Laboratory Recommendation Regarding Receiver Autonomous Integrity Monitoring;

(6) Assignment/Review of Future Work;

(7) Other Business;

(8) Date and Location of Next Meeting;

(9) Closing.

Attendance is open to the interested public but limited to space availability. With the approval of the chairman, members of the public may present oral statements at the meeting. Persons wishing to present statements or obtain information should contact the RTCA Secretariat, at (202) 833-9339 (phone), (202) 833-9434 (fax). Members of the public may present a written statement to the committee at any time.

Issued in Washington, DC, on October 2, 2000.
Janice L. Peters,
Designated Official.

[FR Doc. 00-26017 Filed 10-10-00; 8:45 am]

BILLING CODE 4910-13-M